ENVIRONMENTAL PROTECTION AGENCY

[ER-FRL-9013-4]

Environmental Impact Statements; Notice of Availability

Responsible Agency: Office of Federal Activities, General Information (202) 564-7146 or http://www.epa.gov/compliance/nepa/.

Weekly receipt of Environmental Impact Statements

Filed 01/27/2014 Through 01/31/2014

Pursuant to 40 CFR 1506.9.

Notice

Section 309(a) of the Clean Air Act requires that EPA make public its comments on EISs issued by other Federal agencies. EPA's comment letters on EISs are available at: http://www.epa.gov/compliance/nepa/eisdata.html

EIS No. 20140025, Final EIS, USACE, FL, Lake Worth Inlet, Palm Beach Harbor Project, Review Period Ends: 03/10/2014, Contact: Angela Dunn 904-232-2108.

EIS No. 20140026, Draft EIS, USAF, NH, Second Main Operating Base KC-46A Beddown Alternative Air National Guard Installations, Comment Period Ends: 03/24/2014, Contact: Kevin Marek 240-612-8855.

EIS No. 20140027, Draft EIS, USFS, MT, Buckhorn Project, Comment Period Ends: 03/24/2014, Contact: Sarah Canepa 406-295-4693.

EIS No. 20140028, Draft EIS, DOS, DC, Foreign Missions Center at the Former Walter Reed Army Medical Center, Comment Period Ends: 03/31/2014, Contact: Geoffrey Hunt 202-351-9077.

EIS No. 20140029, Draft EIS, BLM, CA, Modified Blythe Solar Power Project, Comment Period Ends: 03/24/2014, Contact: Frank McMenimen 760-833-7150.

EIS No. 20140030, Final EIS, FHWA, CA, Ferguson Slide Permanent Restoration Project, Review Period Ends: 03/10/2014, Contact: Scott Smith 559-445-6172.

EIS No. 20140031, Final Supplement, USFS, ID, Salmon-Challis National Forest Travel Planning and OHV Route Designation Project, Review Period Ends: 03/31/2014, Contact: Karen Gallogly 208-756-5103.

EIS No. 20140032, Final Supplement, DOS, 00, Keystone XL Project, Review Period Ends: 03/10/2014, Contact: Mary D. Hassell 202-736-7428.

EIS No. 20140033, Second Draft Supplement, USACE, WA, Grays Harbor Navigation Improvement Project, Comment Period Ends: 03/24/2014, Contact: Josh Jackson 206-764-6583.

EIS No. 20140034, Final EIS, NRC, SD, Dewey-Burdock Project, Supplement to the In-Situ Leach Uranium Milling Facilities, Review Period Ends: 03/10/2014, Contact: Haimanot Yilma 301-415-8029.

Dated: February 4, 2014.
Cliff Rader,
Director, NEPA Compliance Division, Office of Federal Activities.

[FR Doc. 2014-02692 Filed 2-6-14; 8:45 am]

BILLING CODE 6560-50-P